DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 28, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: 7 CFR part 210, National School Lunch Program.

OMB Control Number: 0584-0006.

Summary of Collection: Section 10 of the Child Nutrition Act of 1966 (42 U.S.C. 1779) requires the Secretary of Agriculture to prescribe such regulations as deemed necessary to carry out this Act and the Richard B. Russell National School Lunch Act (NSLA) (42 U.S.C. 1751 et seq.). The NSLA, as amended, authorizes the National School Lunch Program (NSLP) to safeguard the health and well-being of the Nation's children and provide free or reduced-price school lunches to eligible students through subsidies to schools. As required, the Secretary of Agriculture issued 7 CFR part 210, which sets forth policies and procedures for the administration and operation of the NSLP.

Need and Use of the Information: This ongoing information collection is required to administer and operate this program in accordance with the NSLA. The Program is administered at the State agency and school food authority (SFA)/local education agency (LEA) levels and States, SFAs/LEAs, and schools under this Act are required to keep accounts and records as may be necessary to enable FNS to determine whether the program is in compliance with this Act and the regulations. Program operations include the submission of applications and agreements and monthly reports of program participation and numbers of meals served submitted from monthly claims for reimbursement. Records maintained include documentation of payment of monthly claims, annual data from Program monitoring reviews, and menu and food production records. In addition to reporting and maintaining records, the States and SFAs/LEAs have publication notification requirements as well. State agencies must post summaries of the most recent administrative review results of SFAs on their websites. LEAs must inform the public annually about the content and implementation of local school wellness policies and must conduct triennial assessments of schools' compliance with the local school wellness policies and inform the public about the progress. FNS uses this information to properly monitor State agency and SFA/LEA compliance.

Description of Respondents: State, local, or Tribal government.

Number of Respondents: 115,935.

Frequency of Responses: Recordkeeping; Reporting; Third party disclosure: On occasion, Quarterly, Monthly, and Annually.

Total Burden Hours: 9,808,701.

Food and Nutrition Service

Title: 7 CFR part 245, Determining Eligibility for Free and Reduced Price Meals and Free Milk in Schools.

OMB Control Number: 0584-0026.

Summary of Collection: The Richard B. Russell National School Lunch Act (NSLA), Child Nutrition Act of 1966 (42 U.S.C. 1779), and Title 7 CFR part 245, Determining Eligibility for Free and Reduced Price Meals and Free Milk in Schools, set forth Program requirements for State agencies, local education agencies (LEAs)/school food authorities (SFAs), and households. 7 CFR part 245 and section 9 of the NSLA require Program participants and administrators of the School Breakfast Program (SBP), National School Lunch Program (NSLP), or Special Milk Program (SMP) to determine children's eligibility for free and reduced price meals and/or free milk. Also established in 7 CFR part 245 and section 9 of the NSLA are Program procedures and Federal requirements that prevent physical segregation, or other discrimination against, or overt identification of, children unable to pay the full price for meals or milk. All schools and institutions opting to participate in the SBP, NSLP, or the SMP are required to make free or reduced price meals or free milk available to all eligible enrolled children.

Need and Use of the Information: FNS collects information for this collection, which contains both mandatory and required to obtain or retain benefit requirements, from State agencies, LEAs/SFAs, and households. The information collected from the State agencies and the LEAs/SFAs ensures that eligibility determinations are made, that applications are verified, that eligibility and other records are maintained, and that public notification is provided concerning the programs. The information collected from the households is used to determine eligibility for free and reduced price meal benefits and participation in the Special Milk Program and to verify eligibility determinations. FNS uses the information to estimate and report the burden that Program requirements have on State and local levels, comply with Federal requirements, understand the administrative and operational costs associated with Program eligibility criteria, to monitor the number of children directly certified and the number participating in the school meal programs, to monitor the number of household applications that are submitted, and to monitor the number of schools operating under Provision 1, 2, or 3 or the Community Eligibility Provision which enable schools to serve all enrolled students free meals at no charge. Households are required to complete applications and respond to verification in order to receive program benefits.

Description of Respondents: Individuals or households; State, local, or Tribal government.

Number of Respondents: 3,571,312.

Frequency of Responses: Recordkeeping; Reporting; Third Party Disclosure: Annually.

Total Burden Hours: 660,799.

Food and Nutrition Service

Title: Child and Adult Care Food Program (CACFP) National Disqualified List.

OMB Control Number: 0584-0584.

Summary of Collection: The Food and Nutrition Service administers the Child Nutrition Act of 1966, as amended (42 U.S.C. 1771, et seq.). Section 243(c) of Public Law 106-224, the Agricultural Risk Protection Act of 2000, amended section 17(d)(5) of the Richard B. Russell National School Lunch Act (42 U.S.C. 1766 (d)(5)(E)(i) and (ii)) by by requiring the Department of Agriculture to maintain a list of institutions, day care home providers, and individuals that have been terminated or otherwise disqualified from CACFP participation. The law also requires the Department to make the list available to State agencies for their use in reviewing applications to participate and to sponsoring organizations to ensure that they do not employ as principals any persons who are disqualified from the program. This statutory mandate has been incorporated into § 226.6(c)(7) of the Program regulations.

Need and Use of the Information: The Food and Nutrition Service (FNS) uses forms FNS-843 Report of Disqualification from Participation—Institution and Responsible Principals/Individuals and FNS-844 Report of Disqualification from Participation—Individually Disqualified Responsible Principal/Individual or Day Care Home Provider to collect and maintain the disqualification data. The State agencies use these forms, which are accessed through a web-based National Disqualification List (NDL) system, to collect the contact information and the disqualification information and reasons on all individuals and institutions that have been disqualified and are therefore ineligible to participate in CACFP. The information is collected from State agencies as the disqualifications occur so that the list is kept current. By maintaining the web-based system, the Department ensures program integrity by making the NDL data available to sponsoring organizations and State agencies so that no one who has been disqualified can participate in CACFP. Without this data collection, State agencies would not be able to prevent individuals and institutions disqualified in other States from reapplying to participate in CACFP.

Description of Respondents: State, local, or Tribal government.

Number of Respondents: 56.

Frequency of Responses: Reporting: On occasion; Other (as needed).

Total Burden Hours: 784.

Ruth Brown,
Departmental Information Collection Clearance Officer.

[FR Doc. 2023-16031 Filed 7-27-23; 8:45 am]

BILLING CODE 3410-30-P